Agency for International Development

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before February 26, 2013.

FOR FURTHER INFORMATION CONTACT: James Wade, Bureau for Management, Office of Management Services, Information and Records Division, U.S. Agency for International Development, Room 2.07C, RRB, Washington, DC 20523, (202) 712-0789 or via email jwade@usaid.gov.

ADDRESSES: Send comments via email to ftfhubinfo@usaid.gov, United States Agency for International Development, Bureau for Food Security, Ronald Reagan Building, 1300 Pennsylvania Avenue NW., Washington, DC 20523, 202-712-1629. If you would like a copy of the survey, please send requests to ftfhubinfo@usaid.gov.

SUPPLEMENTARY INFORMATION:

OMB No: OMB 0412-XXXX.

Form No.: AID 101-1.

Title: Feed the Future Public-Private Partnership Opportunity Explorer.

Type of Review: A New Information Collection.

Purpose: United States Agency for International Development must collect information as part of the Public-Private Partnerships Opportunity Explorer (PPOE) will be used to initially respond to private-sector interest in a partnership with Feed the Future and provide additional information and contacts regarding partnerships (i.e., how to get the process started if it looks like a good fit or alternative options for partnership). The information will be collected from private-sector organizations that are interested in partnering with the U.S. Government. Responses are voluntary. The information will be collected electronically via an online decision tree and related online form. The form will be collected by the Bureau for Food Security at USAID. The decision tree and form help reduce the transaction costs for initial exploration of a partnership for both the private-sector organization and the U.S. Government. They also provide the initial point of entry for private sector organizations into partnerships with the U.S. Government. Electronic submission ensures the creation of a record. Submissions will be stored within an Excel spreadsheet (database) created for the purpose of archiving these submissions and managed by the Bureau for Food Security at USAID. At a later date, the Bureau for Food Security may use a more formalized system to maintain the records, such as Customer Relationship Management (CRM) software. Electronic record retention will adhere to USAID ADS Chapter 502 regulations USAID (ADS 502.3.4.10) and in cases where a registration of interest turns into a public-private partnership, record retention will adhere to procurement record regulations outlined in USAID ADS 324 (USAID ADS 324.3.7). In rare cases where completing the form via the online tool is impossible, USAID will provide the form in PDF or Word document format for completion and submission via email or fax.

Annual Reporting Burden

Respondents: 120.

Total annual responses: 120.

Total annual hours requested: 30 hours.

Lynn Winston,
Chief, Information and Records Division, US Agency for International Development.

[FR Doc. 2012-31025 Filed 12-27-12; 8:45 am]

BILLING CODE M